DEPARTMENT OF DEFENSE

GENERAL SERVICES ADMINISTRATION

NATIONAL AERONAUTICS AND SPACE ADMINISTRATION

48 CFR Parts 52 and 53

[FAC 2005-48; FAR Case 2009-018; Item IV; Docket 2010-0082, Sequence 1]

RIN 9000-AL53

Federal Acquisition Regulation; Payrolls and Basic Records

AGENCY: Department of Defense (DoD), General Services Administration (GSA), and National Aeronautics and Space Administration (NASA).

ACTION: Final rule.

SUMMARY: DoD, GSA, and NASA have adopted as final, with one change, the interim rule amending the Federal Acquisition Regulation (FAR) to revise the FAR clause, Payrolls and Basic Records. This revision implements a Department of Labor rule that protects the privacy of workers.

DATES: Effective Date: December 30, 2010.

FOR FURTHER INFORMATION CONTACT: For clarification of content, contact Ms. Clare McFadden, Procurement Analyst, at (202) 501-0044. For information pertaining to status or publication schedules, contact the Regulatory Secretariat at (202) 501-4755. Please cite FAC 2005-48, FAR Case 2009-018.

SUPPLEMENTARY INFORMATION:

I. Background

DoD, GSA, and NASA published an interim rule in the Federal Register at 75 FR 34286 on June 16, 2010. The interim rule implemented changes from the Department of Labor's (DOL's) final rule, Protecting the Privacy of Workers: Labor Standards Provisions Applicable to Contracts Covering Federally Financed and Assisted Construction, published in the Federal Register at 73 FR 77504 on December 19, 2008, that removed the requirement to submit complete social security numbers and home addresses of individual workers in weekly payroll submissions. DOL concluded that such disclosure of personal information from the prime contractor was unnecessary and created an increased risk of privacy violations. The public comment period closed on August 16, 2010. No comments were received and, as a result, DoD, GSA, and NASA have determined to adopt the interim rule as final with a minor change to add a DOL updated form WH-347 found at FAR 53.303-WH-347.

II. Executive Order 12866

This is not a significant regulatory action and, therefore, was not subject to review under Section 6(b) of Executive Order 12866, Regulatory Planning and Review, dated September 30, 1993. This rule is not a major rule under 5 U.S.C. 804.

III. Regulatory Flexibility Act

DoD, GSA, and NASA certify that this final rule will not have a significant economic impact on a substantial number of small entities within the meaning of the Regulatory Flexibility Act, 5 U.S.C. 601, et seq., because this rule provides relief for contractors from submitting more personal information than is necessary in the weekly payroll submissions and will not impose any measurable costs on contractors.

IV. Paperwork Reduction Act

The Paperwork Reduction Act (44 U.S.C. chapter 35) does apply; however, these changes to the FAR do not impose additional information collection requirements to the paperwork burden previously approved under OMB Control Number 1215-0149, Davis-Bacon Certified Payroll, assigned to the DOL.

List of Subjects in 48 CFR Parts 52 and 53

Government procurement.

Dated: December 22, 2010.
Millisa Gary,
Acting Director, Federal Acquisition Policy Division.

Accordingly, the interim rule published in the Federal Register at 75 FR 34286 on June 16, 2010, is adopted as a final rule with the following change:

PART 53—FORMS

1. The authority citation for 48 CFR part 53 continues to read as follows:

Authority: 40 U.S.C. 121(c); 10 U.S.C. chapter 137; and 42 U.S.C. 2473(c).

2. Amend section 53.303-WH-347 by revising the form to read as follows:

53.303-WH-347 Department of Labor Form WH-347, Payroll (For Contractor's Optional Use).

BILLING CODE 6820-EP-P

[FR Doc. 2010-32892 Filed 12-29-10; 8:45 am]

BILLING CODE 6820-EP-C